DEPARTMENT OF HOMELAND SECURITY

Coast Guard

[USCG-2001-9267]

Workshop: Approval for Experimental Shipboard Installation of Ballast Water Treatment System

AGENCY: Coast Guard, DHS.

ACTION: Notice of workshop.

SUMMARY: The Coast Guard is announcing a workshop for interested and affected parties regarding changes to the Shipboard Technology Evaluation Program (STEP) for ballast water treatment systems. Our goal in this program is to facilitate the development of effective ballast water treatment (BWT) technologies, through rigorous evaluations of prototype systems under shipboard conditions. This will create more options for vessel owners seeking alternatives to ballast water exchange for use in meeting the ballast water management (BWM) requirements established by the Coast Guard. To aid in the development of applications to STEP, the Coast Guard will hold a workshop to expand public awareness of STEP and present recent changes to the guidance materials on applications. We encourage all interested and/or affected stakeholders to attend the workshop.

DATES: The STEP workshop will be on March 21st, 2006, from 8 a.m. to 5 p.m. The workshop may close early if all business is completed. Persons planning to attend are requested to notify Mr. Ronald Jackson by March 13th, 2006, at the address indicated in FOR FURTHER INFORMATION CONTACT. Such notice is not a reservation and is not required, but will be used for general planning purposes.

ADDRESSES: The STEP workshop will be at the Hotel Washington, 515 15th Street, NW., Washington, DC 20004, (202) 638-5900, http://www.hotelwashington.com/. This notice is available on the Internet at http://dms.dot.gov.

FOR FURTHER INFORMATION CONTACT: For information concerning this notice and the workshop, contact Mr. Ronald Jackson, STEP Applications Manager, Environmental Standards Division, U.S. Coast Guard, by telephone 202-267-2716 or via e-mail at rjackson@comdt.uscg.mil. If you have any questions on viewing material in the docket, call Ms. Renee V. Wright, Program Manager, Docket Operations, Department of Transportation, telephone 202-493-0402.

SUPPLEMENTARY INFORMATION:

Availability of STEP Materials

The Coast Guard encourages interested persons to review the STEP program documentation, available for download from the docket (http://dms.dot.gov, docket number USCG-2001-9267) or from the Coast Guard's STEP Web page (http://www.uscg.mil/hq/g-m/mso/step.htm). Copies may be requested via e-mail at environmentalstandards@comdt.uscg.mil or by leaving a message on the Coast Guard's Ballast Water Information Line telephone number (202-267-2716). When requesting mailed copies, please provide full name and mailing address, and specify that you are requesting STEP application guidance materials. Questions about the application process may be asked at the workshop, or directed to Mr. Ronald Jackson at the address listed under the section of this announcement titled FOR FURTHER INFORMATION CONTACT.

The Hotel Washington is holding a block of rooms for the meeting. In order to receive the group rate of $180, reservations need to be made directly with the Hotel Washington by February 28, 2006. After this date, rooms will be available at the best available rate. Reservations can me made by calling the Hotel Washington at 1-800-424-9540 or at http://www.hotelwashington.com http://www.hotelwashington.com/. Please mention or enter the group booking ID # 31241 to receive the block rate.

Information on Services for Individuals With Disabilities

If you plan to attend the workshop and require special assistance, such as sign language interpretation or other reasonable accommodations, please contact us as indicated in FOR FURTHER INFORMATION CONTACT.

Workshop

The Coast Guard encourages potential applicants to STEP, and interested and affected stakeholders, to attend the workshop and learn about the Program in general, and the specifics of the application process. The workshop is open to the public, but space may be limited. Any updates about the workshop will be posted on the Coast Guard's STEP Web site (http://www.uscg.mil/hq/g-m/mso/step.htm).

Regulatory History

The Nonindigenous Aquatic Nuisance Prevention and Control Act of 1990, as reauthorized and amended by the National Invasive Species Act of 1996, authorized the Coast Guard to develop regulations to prevent the introduction of nonindigenous species (NIS) via ballast water discharges. The Coast Guard most recently promulgated ballast water related regulations in the Federal Register on June 14, 2004, entitled, “Penalties for Non-submission of Ballast Water Management Reports” (68 FR 32864) and on July 28, 2004, entitled “Mandatory Ballast Water Management for U.S. Waters” (69 FR 44952). Together, these most recent regulations established penalties for noncompliance with BWM reporting requirements, made the formerly voluntary BWM program a mandatory program, and extended the mandatory BWM program to include all vessels equipped with ballast tanks bound for ports and places in the U.S., and/or entering U.S. waters. The Great Lakes Ballast Water Management Program that became effective on May 10, 1993 (58 FR 18330), has remained unchanged, with the exception that all vessels equipped with ballast water tanks that enter the Great Lakes must now submit their ballast water reporting forms as of August 13, 2004 (68 FR 32864).

Description of Issue

The BWM regulations established by the Coast Guard have created a need for BWT systems that can be used in lieu of mid-ocean ballast water exchange to reduce the risk of introducing nonindigenous species to U.S. waters via ballast water discharges. Vessel owners and the BWT technology industry have expressed the need for incentives to encourage the development of prototype BWT systems and shipboard testing methods. Vessel owners have expressed a reluctance to invest the resources to install and operate experimental equipment for fear that this equipment might not meet discharge standards mandated by future regulations. To address this concern, vessels accepted to the STEP may be granted an equivalency to future ballast water discharge regulations—for up to the life of the vessel or the BWT system—while they operate satisfactorily. Collaboration between government agencies, the shipping industry, the scientific community, as well as other stakeholders is essential for the development of effective and practical BWT technology to reduce the threat posed by NIS in discharged ballast water.

The Coast Guard will use this workshop to inform stakeholders of the STEP approval process, as well as recent changes in certain details of the program. Following announcement of STEP in 2004, the Coast Guard and its partners have developed a revised set of application guidelines. The new guidelines are intended to help clarify for potential applicants the specific information required and the format for its presentation in a STEP application.

Dated: February 14, 2006.
Howard Hime,
Acting Director of Standards, Prevention.

[FR Doc. E6-2826 Filed 2-28-06; 8:45 am]

BILLING CODE 4910-15-P